FEDERAL DEPOSIT INSURANCE CORPORATION

12 CFR Part 327

RIN 3064-AD19

Assessment Dividends

Correction

In proposed rule document 07-4596 beginning on page 53181 in the issue of Tuesday, September 18, 2007, make the following corrections:

1. On page 53184, Chart 1 is being reprinted to read as follows:

2. On page 53188, Chart 3 is being reprinted to read as follows:

On page 53192, Chart 5 is being reprinted to read as follows:

[FR Doc. C7-4596 Filed 10-15-07; 8:45 am]

BILLING CODE 1505-01-D